DEPARTMENT OF COMMERCE

International Trade Administration

[A-570-967]

Aluminum Extrusions From the People's Republic of China: Final Results of Antidumping Duty Administrative Review and Final Determination of No Shipments; 2016-2017

AGENCY: Enforcement and Compliance, International Trade Administration, Department of Commerce.

SUMMARY: The Department of Commerce (Commerce) is conducting an administrative review of the antidumping duty order on aluminum extrusions from the People's Republic of China (China) for the period of review (POR) May 1, 2016, through April 30, 2017. We determine that 25 of the companies for which an administrative review was requested, and not withdrawn, failed to demonstrate eligibility for a separate rate; therefore, each is part of the China-wide entity. We also determine that Guangdong Xin Wei Aluminum Products Co., Ltd., Xin Wei Aluminum Company Limited, and Xin Wei Aluminum Co. Ltd. made no entries, exports, or sales of the subject merchandise during the POR covered by this administrative review.

DATES: Applicable July 27, 2018.

FOR FURTHER INFORMATION CONTACT: Deborah Scott or Mark Flessner, AD/CVD Operations, Office VI, Enforcement and Compliance, International Trade Administration, Department of Commerce, 1401 Constitution Avenue NW, Washington, DC 20230; telephone: (202) 482-2657 or (202) 482-6312, respectively.

SUPPLEMENTARY INFORMATION:

Background

Commerce initiated this review on July 6, 2017.¹ On February 8, 2018, Commerce published the Preliminary Results of this administrative review.² At that time, we invited interested parties to comment on the Preliminary Results.³ On March 13, 2018, we received case briefs from the Aluminum Extrusions Fair Trade Committee (the petitioner) ⁴ and Xin Wei Aluminum Company Limited, Guangdong Xin Wei Aluminum Products Co., Ltd., Xin Wei Aluminum Co. Ltd., Xin Wei Aluminum Co., and Regal Ideas Inc. (collectively, Xin Wei/Regal).⁵ On March 19, 2018, we received rebuttal briefs from the petitioner ⁶ and Tai-Ao Aluminium (Taishan) Co., Ltd. (Tai-Ao).⁷ No other party submitted case or rebuttal briefs. These final results cover 29 companies for which an administrative review was initiated and not rescinded.⁸

¹ See Initiation of Antidumping and Countervailing Duty Administrative Reviews, 82 FR 31292 (July 6, 2017) (Initiation Notice).

² See Aluminum Extrusions from the People's Republic of China: Preliminary Results of Antidumping Duty Administrative Review and Rescission of Review in Part; 2016-2017, 83 FR 5604 (February 8, 2018) (Preliminary Results) and accompanying preliminary decision memorandum (Preliminary Decision Memorandum).

³ See Preliminary Results, 83 FR at 5606; see also 19 CFR 351.309.

⁴ See Petitioner Letter re: Aluminum Extrusions from the People's Republic of China: Case Brief, dated March 13, 2018.

⁵ See Xin Wei/Regal Letter re: Aluminum Extrusions from the People's Republic of China: Case Brief, dated March 13, 2018.

⁶ See Petitioner Letter re: Aluminum Extrusions from the People's Republic of China: Rebuttal Brief, dated March 19, 2018.

⁷ See Tai-Ao Letter re: Tai-Ao's Administrative Rebuttal Brief: Administrative Review of the Antidumping Duty Order on Aluminum Extrusions from the People's Republic of China: Review Period—5/1/16-4/30/17, dated March 19, 2018.

⁸ Initially, this administrative review covered 220 companies. See Initiation Notice, 82 FR at 31294. However, Commerce rescinded this administrative review with respect to 191 companies for which all review requests were timely withdrawn. See Preliminary Results, 83 FR at 5604, and accompanying Preliminary Decision Memorandum.

Scope of the Order

The merchandise covered by the Order ⁹ is aluminum extrusions which are shapes and forms, produced by an extrusion process, made from aluminum alloys having metallic elements corresponding to the alloy series designations published by The Aluminum Association commencing with the numbers 1, 3, and 6 (or proprietary equivalents or other certifying body equivalents).¹⁰

⁹ See Aluminum Extrusions from the People's Republic of China: Antidumping Duty Order, 76 FR 30650 (May 26, 2011) (the Order).

¹⁰ For a complete description of the scope of the Order, see Memorandum, “Issues and Decisions Memorandum for the Final Results of the Antidumping Duty Administrative Review: Aluminum Extrusions from the People's Republic of China; 2016-2017,” dated concurrently with, and hereby adopted by, this notice (Issues and Decision Memorandum).

Imports of the subject merchandise are provided for under the following categories of the Harmonized Tariff Schedule of the United States (HTSUS): 6603.90.8100, 7616.99.51, 8479.89.94, 8481.90.9060, 8481.90.9085, 9031.90.9195, 8424.90.9080, 9405.99.4020, 9031.90.90.95, 7616.10.90.90, 7609.00.00, 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8414.59.60.90, 8415.90.80.45, 8418.99.80.05, 8418.99.80.50, 8418.99.80.60, 8419.90.10.00, 8422.90.06.40, 8473.30.20.00, 8473.30.51.00, 8479.90.85.00, 8486.90.00.00, 8487.90.00.80, 8503.00.95.20, 8508.70.00.00, 8515.90.20.00, 8516.90.50.00, 8516.90.80.50, 8517.70.00.00, 8529.90.73.00, 8529.90.97.60, 8536.90.80.85, 8538.10.00.00, 8543.90.88.80, 8708.29.50.60, 8708.80.65.90, 8803.30.00.60, 9013.90.50.00, 9013.90.90.00, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.41, 9403.90.80.51, 9403.90.80.61, 9506.11.40.80, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50.

The subject merchandise entered as parts of other aluminum products may be classifiable under the following additional Chapter 76 subheadings: 7610.10, 7610.90, 7615.19, 7615.20, and 7616.99, as well as under other HTSUS chapters. In addition, fin evaporator coils may be classifiable under HTSUS numbers: 8418.99.80.50 and 8418.99.80.60. While HTSUS subheadings are provided for convenience and customs purposes, the written description of the scope of this Order is dispositive.¹¹

¹¹ See the Order.

Analysis of Comments Received

All issues raised in the case briefs filed by parties in this review are addressed in the Issues and Decision Memorandum, which is incorporated herein by reference. A list of the issues which any party raised, and to which we respond in the Issues and Decision Memorandum, follows in the appendix to this notice. The Issues and Decision Memorandum is a public document and is on file electronically via Enforcement and Compliance's Antidumping and Countervailing Duty Centralized Electronic Service System (ACCESS). ACCESS is available to registered users at https://access.trade.gov and is available to all parties in the Central Records Unit, Room B8024 of the main Department of Commerce building. In addition, a complete version of the Issues and Decision Memorandum can be accessed directly on the internet at http://enforcement.trade.gov/frn/index.html. The signed Issues and Decision Memorandum and the electronic version of the Issues and Decision Memorandum are identical in content.

Changes Since the Preliminary Results

Based on our analysis of the comments received, and for the reasons explained in the Issues and Decision Memorandum, we made certain changes to the treatment of Guangdong Xin Wei Aluminum Products Co., Ltd., Xin Wei Aluminum Company Limited, and Xin Wei Aluminum Co. Ltd.¹²

¹² See Issues and Decision Memorandum, at Comment 2.

Final Determination of No Shipments

We find that a certification of no shipments on behalf of Guangdong Xin Wei Aluminum Products Co., Ltd., Xin Wei Aluminum Company Limited, and Xin Wei Aluminum Co. Ltd. satisfied the requirements of section 351.213(d)(3) of Commerce's regulations that there were no entries, exports, or sales of the subject merchandise during the POR. Therefore, we determine that Guangdong Xin Wei Aluminum Products Co., Ltd., Xin Wei Aluminum Company Limited, and Xin Wei Aluminum Co. Ltd. made no entries, exports, or sales of the subject merchandise during the POR covered by this administrative review. Consequently, these companies' separate rates remain unchanged from the last administrative review.

China-Wide Entity

For the purposes of the final results of this administrative review, we continue to find that the following entities are part of the China-wide entity because they failed to submit both a response to Commerce's quantity and value questionnaire and information to establish eligibility for a separate rate: (1) Activa International Inc.; (2) Atlas Integrated Manufacturing Ltd.; (3) Belton (Asia) Development Ltd.; (4) Belton (Asia) Development Limited; (5) Changzhou Tenglong Auto Parts Co., Ltd.; (6) Changzhou Tenglong Auto Accessories Manufacturing Co. Ltd.; (7) Changzhou Tenglong Auto Parts Co Ltd; (8) China Square; (9) China Square Industrial Co.; (10) China Square Industrial Ltd; (11) Daya Hardware Co Ltd; (12) ETLA Technology (Wuxi) Co. Ltd; (13) Global Hi-Tek Precision Co. Ltd; (14) Guangdong Whirlpool Electrical Appliances Co., Ltd.; (15) Guangdong Zhongya Aluminium Company Limited; (16) Henan New Kelong Electrical Appliances Co., Ltd.; (17) Liaoning Zhongwang Group Co., Ltd.; (18) Liaoyang Zhongwang Aluminum Profile Co. Ltd.; (19) Midea International Training Co., Ltd.; (20) Midea International Trading Co., Ltd.; (21) Shenyang Yuanda Aluminum Industry Engineering Co. Ltd.; (22) Sincere Profit Limited; (23) Summit Heat Sinks Metal Co, Ltd; (24) USA Worldwide Door Components (PINGHU) Co., Ltd.; (25) Whirlpool Canada L.P.; and (26) Whirlpool Microwave Products Development Ltd.¹³

¹³ See Preliminary Results, 83 FR at 5606.

Commerce's policy regarding conditional review of the China-wide entity applies to this administrative review.¹⁴ Under this policy, the China-wide entity will not be under review unless a party specifically requests, or Commerce self-initiates, a review of the entity. Because no party requested a review of the China-wide entity in the instant review, the entity is not under review, and the entity's current rate, i.e., 86.01 percent,¹⁵ is not subject to change.

¹⁴ See Antidumping Proceedings: Announcement of Change in Department Practice for Respondent Selection in Antidumping Duty Proceedings and Conditional Review of the Nonmarket Economy Entity in NME Antidumping Duty Proceedings, 78 FR 65963, 65970 (November 4, 2013).

¹⁵ See Aluminum Extrusions from the People's Republic of China: Final Results of Antidumping Duty Administrative Review; 2015-2016, 82 FR 52265, 52267 (November 13, 2017).

Adjustments for Countervailable Subsidies

Because no company established eligibility for an adjustment under section 777A(f) of the Act for countervailable domestic subsidies, for these final results, Commerce did not make an adjustment pursuant to section 777A(f) of the Act for countervailable domestic subsidies for separate-rate recipients. Furthermore, because the China-wide entity is not under review, we made no adjustment for countervailable export subsidies for the China-wide entity pursuant to section 772(c)(1)(C) of the Act.

Assessment

Pursuant to section 751(a)(2)(A) of the Act and 19 CFR 351.212(b), Commerce will determine, and U.S. Customs and Border Protection (CBP) shall assess, antidumping duties on all appropriate entries of subject merchandise in accordance with the final results of this review. Commerce intends to issue assessment instructions to CBP 15 days after the date of publication of the final results of review in the Federal Register. Consistent with Commerce's assessment practice in non-market economy (NME) cases, if Commerce determines that an exporter under review had no shipments of subject merchandise, any suspended entries that entered under the exporter's case number (i.e., at that exporter's rate) will be liquidated at the China-wide rate.¹⁶

¹⁶ See Non-Market Economy Antidumping Proceedings: Assessment of Antidumping Duties, 76 FR 65694 (October 24, 2011).

Cash Deposit Requirements

The following cash deposit requirements will be effective upon publication of the final results of this administrative review for all shipments of the subject merchandise from China entered, or withdrawn from warehouse, for consumption on or after the publication date, as provided for by section 751(a)(2)(C) of the Act: (1) For previously investigated or reviewed Chinese and non-Chinese exporters not listed above that received a separate rate in a prior segment of this proceeding, the cash deposit rate will continue to be the exporter-specific rate published for the most-recently completed segment of this proceeding in which the exporter was reviewed; (2) for all Chinese exporters of subject merchandise which have not been found to be entitled to a separate rate, the cash deposit rate will be that established for the China-wide entity, which is 86.01 percent; and (3) for all non-Chinese exporters of subject merchandise which have not received their own rate, the cash deposit rate will be the rate applicable to the Chinese exporter that supplied that non-Chinese exporter with the subject merchandise. These deposit requirements, when imposed, shall remain in effect until further notice.

Notification to Importers

This notice serves as a final reminder to importers of their responsibility under 19 CFR 351.402(f)(2) to file a certificate regarding the reimbursement of antidumping duties and/or countervailing duties prior to liquidation of the relevant entries during this POR. Failure to comply with this requirement could result in Commerce's presumption that reimbursement of antidumping duties and/or countervailing duties occurred and the subsequent assessment of doubled antidumping duties.

Notification to Interested Parties Regarding Administrative Protective Order

This notice also serves as the only reminder to parties subject to administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

We are issuing and publishing notice of these final results in accordance with sections 751(a)(1) and 777(i)(1) of the Act and sections 351.213(h) and 351.221(b)(5) of Commerce's regulations.

Dated: July 23, 2018.
Gary Taverman,
Deputy Assistant Secretary for Antidumping and Countervailing Duty Operations, performing the non-exclusive functions and duties of the Assistant Secretary for Enforcement and Compliance.

Appendix I

List of Topics Discussed in the Issues and Decision Memorandum

1. Summary

2. Background

3. Scope of the Order

4. Discussion of the Issues

Comment 1: Adjustment of Liquidation Instructions

Comment 2: Xin Wei/Regal Separate Rate

5. Recommendation

[FR Doc. 2018-16071 Filed 7-26-18; 8:45 am]

BILLING CODE 3510-DS-P